DEPARTMENT OF COMMERCE

National Oceanic and Atmospheric Administration

[RTID 0648-XA558]

Endangered Species; File Nos. 24016 and 24020

AGENCY: National Marine Fisheries Service (NMFS), National Oceanic and Atmospheric Administration (NOAA), Commerce.

ACTION: Notice; receipt of applications for permits.

SUMMARY: Notice is hereby given that two applicants have applied in due form for a permit to take Atlantic (Acipenser oxyrinchus) and shortnose (A. brevirostrum) sturgeon for purposes of scientific research.

DATES: Written, telefaxed, or email comments must be received on or before November 13, 2020.

ADDRESSES: The applications and related documents are available for review by selecting “Records Open for Public Comment” from the “Features” box on the Applications and Permits for Protected Species (APPS) home page, https://apps.nmfs.noaa.gov, and then selecting the appropriate File Nos. 24016 or 24020 from the list of available applications. These documents are also available upon written request via email to NMFS.Pr1Comments@noaa.gov.

Written comments on this application should be submitted via email to NMFS.Pr1Comments@noaa.gov. Please include the appropriate File No. 24016 or 24020 in the subject line of the email comment.

Those individuals requesting a public hearing should submit a similar written request via email to NMFS.Pr1Comments@noaa.gov. The request should set forth the specific reasons why a hearing on the requested application would be appropriate.

FOR FURTHER INFORMATION CONTACT: Malcolm Mohead or Erin Markin, (301) 427-8401.

SUPPLEMENTARY INFORMATION: The subject permits are requested under the authority of the Endangered Species Act of 1973, as amended (ESA; 16 U.S.C. 1531 et seq.) and the regulations governing the taking, importing, and exporting of endangered and threatened species (50 CFR parts 222-226).

File No. 24016: Jason Kahn, National Marine Fisheries Service, 1315 East-West Highway, Silver Spring, MD 20910, requests a permit to conduct scientific research on Atlantic and shortnose sturgeon in freshwater and estuary areas of the Chesapeake Bay to assess adult sturgeon population and reproductive capacity as well as monitor spawning activity, movement, and habitat through telemetry. Juvenile, sub-adult and adult life stages of Atlantic and shortnose sturgeon would be captured using gill or trammel nets, trawls, and trapping nets (e.g., fyke, or other trap nets), whereupon all animals would be marked with passive integrated transponder (PIT) and Floy tags, genetic tissue sampled, measured, weighed, photographed and released. Subsets of animals may also be anesthetized, internally or externally acoustically tagged, biologically sampled (i.e., fin ray, blood, gametes), endoscoped and ultrasounded. Larvae and eggs may also be collected with D-nets, trawls (i.e., epibenthic sleds), and egg mats. The applicant anticipates that up to one adult/sub-adult and one juvenile Atlantic sturgeon may be killed annually.

In coastal areas within the Atlantic sturgeon's range, research will focus on opportunistic sampling and telemetry of adult, sub-adult and juvenile life stages captured incidentally under other ESA authority. All animals would be marked with PIT and Floy tags, genetic tissue sampled, measured, weighed, photographed, and released. Subsets of animals may also be anesthetized, internally or externally acoustically tagged, biologically sampled (e.g., fin ray, blood, gametes), and endoscoped. Survival and coastal movement of animals in a mixed marine stock would be documented through telemetry. The permit would be valid for up to 10 years from the date of issuance.

File No. 24020: The Delaware Department of Natural Resources and Environmental Control, 3002 Bayside Drive, Dover, DE 19901 (Responsible Party: Michael Stangle), requests a permit to conduct scientific research on adult, sub-adult, and juvenile Atlantic and shortnose sturgeon in the Delaware River to document abundance, movement patterns, and habitat preference using telemetry. Annually, sturgeon would be captured with gillnets and trawls, where upon they would be weighed, measured, examined for tags, marked with PIT and Floy tags, genetically sampled, photographed and released. Subsets of animals would be anesthetized and implanted with acoustic transmitters, gastric lavaged, and fin-ray sampled, released, and traced by telemetry.

The applicant anticipates that up to one adult/sub-adult and one juvenile Atlantic and shortnose sturgeon may be killed annually. The permit would be valid for up to 10 years from the date of issuance.

Dated: October 7, 2020.
Julia Marie Harrison,
Chief, Permits and Conservation Division, Office of Protected Resources, National Marine Fisheries Service.

[FR Doc. 2020-22615 Filed 10-13-20; 8:45 am]

BILLING CODE 3510-22-P